DEPARTMENT OF DEFENSE

Office of the Secretary

[Docket ID DoD-2020-OS-0069]

Submission for OMB Review; Comment Request

AGENCY: National Defense University, Department of Defense (DoD).

ACTION: 30-Day information collection notice.

SUMMARY: The Department of Defense has submitted to OMB for clearance the following proposal for collection of information under the provisions of the Paperwork Reduction Act.

DATES: Consideration will be given to all comments received by April 19, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: National Defense University Student Profile; OMB Control Number 0704-XXXX.

Type of Request: Existing collection in use without an OMB Control Number.

Number of Respondents: 150.

Responses per Respondent: 1.

Annual Responses: 150.

Average Burden per Response: 20 minutes.

Annual Burden Hours: 50 hours.

Needs and Uses: This information collection is required to complete the official student record, which is stored in the University Student Management System (USMS), a component of the National Defense University (NDU) Enterprise Information System. Through this information collection, students provide profile information such as demographics, educational background, military service or professional background, and emergency contact information. The information is critical to university operations as it is used to fulfill mandatory reporting requirements and ensure the safety of students. The information is collected from students electronically, via a web-based form that contains a combination of selected-response (radio buttons, drop-down menus) and open-response items. The National Defense University Student Profile (NSP) is completed by all students, but for the purposes of the Paperwork Reduction Act, this information collection request only covers NDU's relatively small student population of members of the public (foreign nationals and non-government employee U.S. civilians). The collection is administered using a Drupal-based survey platform provided by USA Learning. The data are downloaded, processed, and transferred to the USMS by NDU's Office of Institutional Research. The end result is a set of complete student records for each academic year in the official repository for such record. The data are used for various institutional purposes such as mandatory reporting and notifying students of emergencies or closures.

Affected Public: Individuals or Households.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: March 12, 2021.
Aaron T. Siegel,
Alternate OSD Federal Register Liaison Officer, Department of Defense.

[FR Doc. 2021-05572 Filed 3-17-21; 8:45 am]

BILLING CODE 5001-06-P